DEPARTMENT OF TRANSPORTATION

Federal Aviation Administration

Notice of Intent To Rule on Request To Release Airport Property at Pocahontas Municipal Aiport, Pocahontas, Arkansas

AGENCY: Federal Aviation Administration (FAA), DOT.

ACTION: Notice of request to release airport property.

SUMMARY: The FAA proposes to rule and invites public comment on the release of land at Pocahonas Municipal Airport under the provisions of Section 125 of the Wendell H. Ford Aviation Investment Reform Act for the 21st Century (AIR 21).

DATES: Comments must be received on or before September 15, 2014.

ADDRESSES: Comments on this application may be mailed or delivered to the FAA at the following address: Mr. Glenn A. Boles, Manager, Federal Aviation Administration, Southwest Region, Airports Division, AR/OK Airports Development Office, ASW-630, Fort Worth, Texas 76137.

In addition, one copy of any comments submitted to the FAA must be mailed or delivered to The Honorable Frank Bigger, Mayor of Pocahontas at the following address: City of Pocahontas, Arkansas, 410 North Marr Street, Pocahontas, AR 72455.

FOR FURTHER INFORMATION CONTACT: Mr. Paul Burns, Program Manager, Federal Aviation Administration, AR/OK Airports Development Office, ASW-630, 2601 Meacham Blvd., Fort Worth, Texas 76137.

The request to release property may be reviewed in person at this same location.

SUPPLEMENTARY INFORMATION: The FAA invites public comment on the request to release property at the Pocahontas Municipal Airport under the provisions of the AIR 21.

On July 31, 2014, the FAA determined that the request to release property at Pocahontas Municipal Reional Airport submitted by the City of Pocahontas met the procedural requirements of the Federal aviation Regulations, Part 155. The FAA may approve the request, in whole or in part, no later than August 29, 2014.

The following is a brief overview of the request:

The City of Pocahontas requests the release of 2.63 acres of airport property valued at $20,000.00. The release of property will allow for the sale of the property to Mr. Bill Baltz for the development of an industrial facility. The City of Pocahontas will use the $20,000.00 resulting from the sale to fund construction of a new tee-hangar at the airport.

Any person may inspect the request in person at the FAA office listed above under FOR FURTHER INFORMATION CONTACT.

In addition, any person may, upon request, inspect the application, notice and other documents germane to the application in person at the Pocahontas Muncipal Airport.

Issued in Fort Worth, Texas on July 31, 2014.
Kelvin L. Solco,
Manager, Airports Division.

[FR Doc. 2014-19195 Filed 8-13-14; 8:45 am]

BILLING CODE 4910-13-P